DEPARTMENT OF VETERANS AFFAIRS

[OMB Control No. 2900-0342]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 23, 2004.

FOR FURTHER INFORMATION CONTACT: Denise McLamb, Records Management Service (005E3), Department of Veterans Affairs, 810 Vermont Avenue, NW., Washington, DC 20420, (202) 273-8030, FAX (202) 273-5981 or e-mail denise.mclamb@mail.va.gov. Please refer to “OMB Control No. 2900-0342.” Send comments and recommendations concerning any aspect of the information collection to VA's OMB Desk Officer, OMB Human Resources and Housing Branch, New Executive Office Building, Room 10235, Washington, DC 20503 (202) 395-7316. Please refer to “OMB Control No. 2900-0342” in any correspondence

SUPPLEMENTARY INFORMATION:

Titles: a. Other On-the-Job Training and Apprenticeship Training Agreement and Standards, VA Form 22-8864. b. Employer's Application to Provide Training, VA Form 22-8865.

OMB Control Number: 2900-0342.

Type of Review: Extension of a currently approved collection.

Abstract: VA uses the information on VA Form 22-8864 to ensure that a trainee is entering an approved training program. VA Form 22-8865 is used to ensure training programs and agreements meet statutory requirements for approval of an employer's job training program.

An agency may not conduct or sponsor, and a person is not required to respond to a collection of information unless it displays a currently valid OMB control number. The Federal Register notice with a 60-day comment period soliciting comments on this collection of information was published on April 6, 2004, at pages 18154 and 18155.

Affected Public: Business or other for-profit, Not for profit institutions, Farms, Federal Government, and State, local or tribal government.

Estimated Annual Burden: a. VA Form 22-8864—75 hours. b. VA Form 22-8865—225 hours.

Estimated Average Burden Per Respondent: a. VA Form 22-8864—30 minutes. b. VA Form 22-8865—90 minutes.

Frequency of Response: On occasion.

Estimated Number of Respondents: a. VA Form 22-8864-150. b. VA Form 22-8865-150.

Dated: July 13, 2004.
By direction of the Secretary.
Loise Russell,
Director, Records Management Service.

[FR Doc. 04-16699 Filed 7-21-04; 8:45 am]

BILLING CODE 8320-01-P